DEPARTMENT OF COMMERCE

[I.D. 080700B]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Alaska Region Permit Family of Forms.

Form Number(s): None.

OMB Approval Number: 0648-0206.

Type of Request: Regular.

Burden Hours: 483.

Number of Respondents: 931.

Average Hours Per Response: 20 minutes for a vessel or processor permit application, 20 hours for an application for an exempted fishing permit, 10 hours for an exempted fishing permit final report, and 5 hours for an exempted fishing permit progress report.

Needs and Uses: Fishermen and processors wishing to participate in regulated fisheries in the Exclusive Economic Zone off Alaska must obtain either a Federal Fisheries Permit, a Federal Processor Permit, a High Seas Power Troller Permit, or an Experimental Fishing Permit. The application information is used to identify participants in the fishery, aid enforcement of fishery regulations, and analyze activity within the fisheries.

Affected Public: Business and other for-profit organizations.

Frequency: Triennial for vessel and processor permits, on occasion for exempted fishing permit requirements.

Respondent's Obligation: Mandatory.

OMB Desk Officer: David Rostker, (202) 395-3897.

Copies of the above information collection proposal can be obtained by calling or writing Linda Engelmeier, DOC Forms Clearance Officer, (202) 482-3272, Department of Commerce, Room 6086, 14th and Constitution Avenue, NW, Washington, DC 20230 (or via the Internet at lengelme@doc.gov).

Written comments and recommendations for the proposed information collection should be sent within 30 days of publication of this notice to David Rostker, OMB Desk Officer, Room 10202, New Executive Office Building, Washington, DC 20503.

Dated: August 3, 2000.
Madeleine Clayton,
Management Analyst, Office of the Chief Information Officer.

[FR Doc. 00-20322 Filed 8-9-00; 8:45 am]

BILLING CODE 3510-22-F